DEPARTMENT OF HEALTH AND HUMAN SERVICES

National Institutes of Health

National Institute of Environmental Health Sciences; Amended Notice of Meeting

Notice is hereby given of a change in the meeting of the National Institute of Environmental Health Sciences Special Emphasis Panel, February 12, 2003, 9:30 a.m. to February 12, 2003, 10:30 a.m., which was published in the Federal Register on January 16, 2003, FR68: 2343.

The time of this meeting has change from 9:30 a.m. as previously advertised, to 1 p.m. The meeting is closed to the public

Dated: January 29, 2003.
LaVerne Y. Stringfield,
Director, Office of Federal Advisory Committee Policy.

[FR Doc. 03-2617 Filed 2-4-03; 8:45 am]

BILLING CODE 4140-01-M